NATIONAL SCIENCE FOUNDATION

Notice of Permits Issued Under the Antarctic Conservation Act of 1978

AGENCY: National Science Foundation.

ACTION: Notice of permits cancelled under the Antarctic Conservation of 1978, Public Law 95-541.

SUMMARY: The National Science Foundation (NSF) is required to publish notice of permits cancelled under the Antarctic Conservation Act of 1978. This is the required notice.

FOR FURTHER INFORMATION CONTACT: Adrian Dahood, ACA Permit Officer, Division of Polar Programs, Rm. 755, National Science Foundation, 4201 Wilson Boulevard, Arlington, VA 22230. Or by email: ACApermits@nsf.gov.

SUPPLEMENTARY INFORMATION: Two permits were issued to the Lockheed Martin, Antarctic Support Contract (ASC). ASC desired to consolidate their reporting requirements and asked for two permits to be combined into one. The following permits have been cancelled:

ACA 2013-012 Issued to the Antarctic Support Contract (ASC)

ACA 2013-014 Issued to the Antarctic Support Contract (ASC)

ACA 2013-012 and ACA 2013-014 were replaced by permit ACA. 2014-002 issued to the ASC on June 12, 2013.

Nadene G. Kennedy,
Division of Polar Programs.

[FR Doc. 2013-16665 Filed 7-11-13; 8:45 am]

BILLING CODE 7555-01-P